DEPARTMENT OF ENERGY

Notice of Availability of the Final Environmental Impact Statement for the Proposed JEA Circulating Fluidized Bed Combustor Project at Jacksonville, FL

AGENCY: Department of Energy.

ACTION: Notice of availability.

SUMMARY: The Department of Energy (DOE) announces the availability of the Final Environmental Impact Statement (EIS) for the JEA Circulating Fluidized Bed Combustor Project (DOE/EIS-0289), at Jacksonville, Florida. The Final JEA EIS analyzes the environmental impacts that could result from construction and operation of a 297.5 megawatt-electric, coal- and petroleum coke-fired, circulating fluidized bed combustor and boiler to repower an existing steam turbine at JEA's Northside Generating Station. The proposed Federal action is cost-shared funding of approximately $73.1 million (about 24 percent of the total estimated cost of $309 million) for construction of the combustor and boiler and for a 24-month period of demonstration testing of the technology. The proposed project is expected to demonstrate technology for the cost-effective reduction of nitrogen oxide, sulfur dioxide, and particulate emissions, while producing power more efficiently and at less cost than conventional coal combustion technologies. Information and experience developed from this project would provide the basis for demonstrating the potential of utility scale, atmospheric pressure, circulating fluidized bed technology as a viable alternative to conventional coal-fired power plant technologies. DOE may issue a Record of Decision no sooner than 30 days after the U.S. Environmental Protection Agency publishes a Notice of Availability of the Final EIS in the Federal Register.

ADDRESSES: Requests for copies of the Final EIS or other information about the proposed action should be addressed to: Ms. Lisa Hollingsworth, JEA NEPA Document Manager, National Energy Technology Laboratory, U.S. Department of Energy, 3610 Collins Ferry Road, P.O. Box 880, Morgantown, WV 26507-0880; by telephone at 304-285-4992; by fax at 304-285-4403; by leaving a message at 1-800-276-9851; or by electronic mail at lisa.hollingsworth@netl.doe.gov. The Final JEA EIS will be available under the DOE NEPA Analyses link from the DOE NEPA Web at http://tis.eh.doe.gov/nepa/.

FOR FURTHER INFORMATION CONTACT: For general information on the DOE NEPA process, please contact Ms. Carol M. Borgstrom, Director, Office of NEPA Policy and Assistance, EH-42, U.S. Department of Energy, 1000 Independence Avenue, SW, Washington, D.C. 20585. Ms. Borgstrom may be contacted by calling 202-586-4600 or by leaving a message at 1-800-472-2756.

SUPPLEMENTARY INFORMATION: The JEA EIS was prepared pursuant to the National Environmental Policy Act of 1969 (NEPA) (42 U.S.C. 4321 et seq.), the Council on Environmental Quality NEPA regulations (40 CFR Parts 1500-1508), and the DOE NEPA regulations (10 CFR Part 1021).

A Notice of Intent (Notice) to prepare an environmental impact statement for the proposed JEA Circulating Fluidized Bed Combustor Project and hold a public scoping meeting was published in the Federal Register on Thursday, November 13, 1997 (62 FR 60889). The Notice invited oral and written comments and suggestions on the proposed scope of the environmental impact statement, including environmental issues and alternatives, and invited public participation in the National Environmental Policy Act process. A public scoping meeting was announced and held on December 3, 1997, at Jacksonville, FL. Comments and feedback received during the public scoping process were used to guide development of the environmental analyses included in this final JEA EIS. The availability of the draft environmental impact statement for the Proposed JEA Circulating Fluidized Bed Combustor Project was announced in the Federal Register on Wednesday, August 25, 1999 (64 FR 46363). The Notice invited oral and written comments and provided details on the public hearing. A public hearing was held at the North Campus of the Florida Community College in Jacksonville, Florida, on September 30, 1999. Comments received during the comment period and at the public hearing have been addressed in the Final JEA EIS.

DOE proposes to provide funding to JEA for supporting the construction and operation of a combustor and boiler to repower a steam turbine and generator that have been out of service since 1983 at JEA's Northside Generating Station. As part of this proposed action (the preferred alternative identified in the EIS), the Final JEA EIS evaluates plans by JEA to repower a second, currently operating, steam turbine without cost-shared funding from DOE. In addition to analyzing the environmental impacts of the proposed action, the Final JEA EIS analyzes the potential impacts of the No-Action Alternative. Under the No-Action Alternative, three scenarios that reasonably could be expected to be pursued by JEA in the absence of DOE funding are analyzed. The Final JEA EIS compares the environmental impacts that could be expected to occur from repowering the two steam turbines with new circulating fluidized bed combustors with the impacts that would be likely from each of the three scenarios under the No-Action Alternative.

The principal focus of the JEA EIS is on evaluating impacts from construction and operation of the proposed project on the primary areas of concern: human health, air quality, surface water, groundwater, ecological resources, socioeconomic resources (including environmental justice), noise, and traffic. In addition, impacts on land use, floodplains, wetlands, waste management, and cultural resources are also considered.

DOE has distributed copies of the Final JEA EIS to appropriate Members of Congress, State and local agencies and government officials in Florida, Federal agencies, and other interested parties. Copies of the document may be obtained by contacting DOE as provided in the section of this notice entitled ADDRESSES. Copies of the Final JEA EIS are also available for inspection at the locations identified below:

(1) U.S. Department of Energy, Freedom of Information Reading Room, 1E-190, Forrestal Building, 1000 Independence Avenue, SW, Washington, DC 20585.

(2) U.S. Department of Energy, National Energy Technology Laboratory, 3610 Collins Ferry Road, P.O. Box 880, Morgantown, WV 26507-0880.

(3) Highlands Branch Library, 1826 Dunn Avenue, Jacksonville, FL 32218.

DOE may issue a Record of Decision (ROD) on whether to provide cost-shared funding for the proposed JEA Circulating Fluidized Bed Combustor Project no sooner than 30 days after the U.S. Environmental Protection Agency publishes a Notice of Availability of the Final EIS in the Federal Register.

Issued in Washington, D.C., this 26th day of June 2000.
Robert S. Kripowicz,
Principal Deputy Assistant Secretary for Fossil Energy.

[FR Doc. 00-16558 Filed 6-29-00; 8:45 am]

BILLING CODE 6450-01-P